DEPARTMENT OF ENERGY

Notice of Intent to Solicit Competitive Applications/Proposals for Financial Assistance

AGENCY: Rocky Flats Field Office, Department of Energy (DOE).

ACTION: Notice of intent to solicit competitive applications/proposals for financial assistance.

SUMMARY: The Rocky Flats Field Office (RFFO) of the Department of Energy is entrusted to contribute to the welfare of the nation by providing the scientific foundation, technology, policy and institutional leadership necessary to achieve efficiency in energy use, diversity in energy sources, a more productive and competitive economy, improved environmental quality, and a secure national defense. RFFO intends to fund a series of grants in special emphasis programs to encourage programs to train Native American, African American, Hispanic American, Asian-Pacific American, Women and Disabled Students to pursue training in the fields of sciences and engineering; and to fund local community projects contributing to diversity-related programs.

DATES: Applications may be submitted by April 29, 2002. Applications received by April 29, 2002 will be considered; applications received after that date may or may not be considered depending on the status of proposal review and selection.

ADDRESSES: Department of Energy, Rocky Flats Field Office, Contracts Management Division, 10808 Highway 93, Unit A, Golden, Colorado 80403-8200.

FOR FURTHER INFORMATION CONTACT: Elaine Nix, Department of Energy Rocky Flats Field Office, 10808 Highway 93, Unit A, Golden, Colorado 80403-8200, (303) 966-2054, for application forms and additional information. Completed applications or proposals must be sent to the addresses heading.

SUPPLEMENTARY INFORMATION: DOE RFFO is under no obligation to pay for any costs associated with the preparation or submission of applications/proposals if an award is not made. If an award is made, such costs may be allowable as provided in the applicable cost principles.

Availability Of Fiscal Year 2001 Funds: With this publication; DOE RFFO is announcing the availability of up to $300,000 in grant funds for fiscal year 2001. RFFO anticipates that four or less grants will be made for a total not-to-exceed $300,000. The awards will be made through a competitive process. Projects may cover a period of up to 5 years. Funding for out-years is dependent on appropriation from Congress. Length of awards may vary by applicant.

Restricted Eligibility: Eligible applicants for the purposes of funding under this notice include organizations and institutions residing in Colorado proposing to implement minority science and engineering projects in Colorado as described in the summary section of this announcement. Applicants are encouraged to propose project cost-sharing or sharing of in-kind services or resources. The awards will be made through a competitive process to organizations and institutions located in the State of Colorado. The Catalog of Federal Domestic Assistance number assigned to this program is 81.116.

Evaluation Criteria: All responsive Applications will be reviewed by a panel composed of Department of Energy RFFO representatives. Successful proposal(s) will be selected on the opinion of panel members of proposals most able to meet the objectives best able to meet the needs of this office.

Proposals must demonstrate and will be evaluated based on the following criteria:

1. Implementation plan demonstrates experience, qualifications, capabilities, and resources necessary to successfully accomplish the proposed activities. (25%)

2. Exhibits sound administrative and financial management practices. (25%)

• Ability and willingness to perform all administrative requirements of the grant.

• The relationship between direct and indirect costs, and other financial aspects of the proposed grant, demonstrates sound financial practices.

• Cost effectiveness of projects.

3. Relationship of the proposed project to the objectives of the solicitation. (25%)

4. Qualifications of key personnel. (10%)

• Adequacy of availability and level of expertise of proposed personnel resources.

• Level of expertise of key personnel as demonstrated in resumes containing relevant education, training, and experience (resumes should include relevant project work previously conducted by individuals of the team).

5. Successful past performance of similar projects. (15%)

• Proposals lacking records of relevant past performance will receive a neutral score.

DOE RFFO hereby reserves the right to fund, in part or whole, any, all, or none of the proposals submitted in response to this request. All applicants will be notified in writing of the action taken on their applications. Applicants should allow approximately 90 days for DOE evaluation. The status of any application during the evaluation and selection process will not be discussed with applicants. Unsuccessful applications will not be returned to the applicant.

Issued in Golden, Colorado, on March 21, 2002.
D. Elaine Nix,
Contracting Officer.

[FR Doc. 02-7589 Filed 3-28-02; 8:45 am]

BILLING CODE 6450-01-P